DEPARTMENT OF ENERGY

Office of Fossil Energy

[FE Docket Nos. 02-10-NG, et al.]

Burlington Resources Canada Marketing Ltd. (Formerly Poco Marketing Ltd.), et al.; Orders Granting and Amending Authority To Import and Export Natural Gas

AGENCY: Office of Fossil Energy, DOE.

ACTION: Notice of orders.

SUMMARY: The Office of Fossil Energy (FE) of the Department of Energy gives notice that during March 2002, it issued Orders granting and amending authority to import and export natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on April 5, 2002.
Yvonne Caudillo,
Acting Manager, Natural Gas Regulation, Office of Natural Gas & Petroleum Import & Export Activities, Office of Fossil Energy.

Appendix

Orders Granting and Amending Import/Export Authorizations

DOE/FE Authority
Order No. | Date issued | Importer/exporter FE docket No. | Import volume | Export volume | Comments
1758 | 03-12-02 | Burlington Resources Canada Marketing Ltd. (Formerly Poco Marketing Ltd.), 02-10-NG | 250 Bcf |  | Import natural gas from Canada, beginning on March 31, 2002, and extending through March 30, 2004.
1759 | 03-13-02 | Distribuidora de Gas Natural de Mexicali 02-08-NG | 18.3 Bcf | 18.3 Bcf | Import natural gas from Canada, and export natural gas to Canada and Mexico, beginning on July 31, 2001, and extending through July 30, 2003.
1760 | 03-13-02 | Northwest Natural Gas Company, 02-09-NG | 150 Bcf | 150 Bcf | Import and export natural gas from and to Canada, beginning on May 1, 2002, and extending through April 30, 2004.
1761 | 03-14-02 | RWE Trading Americas, Inc. 02-11-NG | 75 Bcf |  | Import and export a combined total of natural gas from and to Canada, beginning on April 1, 2002, and extending through March 31, 2004.
1623-B | 03-25-02 | Aquila Merchant Services, Inc. (Formerly Aquila, Inc.), 00-61-NG |  |  | Amendment to blanket import and export authority reflecting name change.
1762 | 03-25-02 | National Fuel Gas Distribution Corporation, 02-13-NG | 33.8 Bcf |  | Import and export a combined total of natural gas from and to Canada, beginning on January 28, 2001, and extending through January 27, 2003.
1763 | 03-27-02 | Numac Energy (U.S.) Inc., 02-12-NG | 50 Bcf |  | Import natural gas from Canada, beginning on October 15, 2002, and extending through October 14, 2004.

[FR Doc. 02-8819 Filed 4-10-02; 8:45 am]

BILLING CODE 6450-01-P